OFFICE OF SCIENCE AND TRANSPORTATION

National Science and Technology Council's Committee on Environmental and Natural Resources (CENR) Interagency Working Group on Earth Observations (IWGEO)

ACTION: Notice of public meeting/workshop and opportunity for public discussion.

SUMMARY: This notice announces an Integrated Earth Observation System Public Engagement Workshop by the National Science and Technology Council's Committee on Environment and Natural Resources (CENR) Interagency Working Group on Earth Observations (IWGEO) to discuss the nine societal benefit areas and the six near term opportunities identified in the Stratetic Plan for the U.S. Integrated Earth Observation System. This plan was developed to address the effective use of Earth observation systems to enable a healthy public, economy and planet.

DATES: The Interagency Working Group on Earth Observations will hold a two-day workshop on Monday, May 9, 2005, 8:30 a.m. to 5:30 p.m. (e.d.t.); Tuesday, May 10, 2005, 8:30 a.m. to 4:30 p.m. to identify Earth observation system components and solutions to contribute to the implementation of the Integrated Earth Observation System. All sessions of the workshop will be held at the Ronald Reagan Builing and International Trade Center, Washington, DC.

FOR FURTHER INFORMATION CONTACT: For information regarding this notice, please contact Carla Sullivan, National Oceanic and Atmospheric Administration. Telephone: (202) 482-5921. E-mail: carla.sullivan@noaa.gov.

SUPPLEMENTARY INFORMATION: The Strategic Plan for the U.S. Integrated Earth Observation System was developed by the Interagency Working Group on Earth Observations of the NSTC Committee on Environment and Natural Resources.

Purpose of the Workshop: The purpose of this workshop is to bring ideas and information from the broader community into the IWGEO planning process as it further develops the U.S. 10-Year Plan for Developing an Integrated Earth Observing System. The nine strategic social/economic benefit areas identified in the Strategic Plan include:

1. Improve Weather forecasting;

2. Reducing Loss of Life and Property From Disasters;

3. Protecting and Monitoring Ocean Resources;

4. Understanding Climate, and Assessing, Mitigating, and Adapting to Climate Change Impacts;

5. Supporting Sustainable Agriculture and Forestry, and Combating Land Degradation;

6. Understanding the Effect on Environmental Factors on Human Health and Well-Being;

7. Developing the Capacity To Make Ecological Forecasts;

8. Protecting and Monitoring Water Resources; and

9. Monitoring and Managing Energy Reserves.

The six near term opportunities identified in the Strategic Plan are:

1. Data Management

2. Improved Observations for Disaster Warnings

3. Global Land Observing System

4. Sea Level Observing System

5. National Integrated Drought Information System, and

6. Air Quality Assessment and Forecast System.

Public Participation: Due to space constraints, interested parties will need to pre-register for this meeting, Deadline for registration is April 29, 2005, or when capacity of facility is met. See IWEGEO Web page for registration materials and additional information: http://iwgeo.ssc.nasa.gov, or contact the IWGEO Secretariat office: Carla Sullivan, Interagency Working Group on Earth Observations (IWGEO), National Oceanic and Atmospheric Administration (NOAA), 1401 Constitution avenue, NW., Washington, DC 20230. Telephone: (202) 482-5921, telefax: (202) 482-5181. E-mail: carla.sullivan@noaa.gov. Subject: IWGEO Integrated Earth Observation System Public Engagement Workshop.

Authority

The National Science and Technology Council (NSTC) was established under Executive Order 12881. The CENR is chartered under the NSTC. The purpose of the CENR is to advise and assist the NSTC, with emphasis on those federally supported efforts that develop new knowledge related to improving our understanding of the environment and natural resources.

M. David Hodge,
Acting Assistant Director for Budget and Administration.

[FR Doc. 05-6224 Filed 3-29-05; 8:45 am]

BILLING CODE 3170-WS-M